DEPARTMENT OF COMMERCE

Bureau of Industry and Security

15 CFR Part 740

[Docket No. 260127-0035]

RIN 0694-AK41

Conforming Change to the Export Administration Regulations for Cambodia

AGENCY: Bureau of Industry and Security, Department of Commerce.

ACTION: Final rule.

SUMMARY: In this final rule, the Bureau of Industry and Security (BIS) makes a conforming change to the Export Administration Regulations (EAR) to reflect that Cambodia is no longer a Country Group D:5 country. On November 7, 2025, the Department of State published a final rule, “International Traffic in Arms Regulations: Changes to Section 126.1,” that removed Cambodia as an arms embargoed destination under the International Traffic in Arms Regulations (ITAR), pursuant to a determination made by the Secretary of State.

DATES: This rule is effective February 3, 2026.

FOR FURTHER INFORMATION CONTACT: For questions on this rule, contact Philip Johnson at RPD2@bis.doc.gov or (202) 482-2440.

SUPPLEMENTARY INFORMATION:

Background

The Bureau of Industry and Security (BIS) is amending the EAR (15 CFR parts 730-774) by making a conforming change to reflect that Cambodia is no longer a Country Group D:5 country (U.S. Arms Embargoed Countries) as listed in supplement no. 1 to part 740 of the EAR. On October 26, 2025, the White House announced that the United States had removed the arms embargo on Cambodia. On October 27, 2025, the Department of State's Directorate of Defense Trade Controls announced that it would review applications for International Traffic in Arms Regulations (ITAR) controlled activities on a case by case basis and publish a regulatory change to remove Cambodia from the list of countries in ITAR § 126.1. On November 7, 2025, the State Department published a rule amending § 126.1 of the International Traffic in Arms Regulations (ITAR) (22 CFR parts 120 through 130) to reflect the removal of Cambodia's status as an arms embargoed destination (see “International Traffic in Arms Regulations: Changes to Section 126.1”, 90 FR 50489). The November 7, 2025, rule specifies that the Secretary of State made a determination to lift the embargo on defense trade with Cambodia based on Cambodia's diligent pursuit of peace and security, including through renewed engagement with the United States on defense cooperation and combating transnational crime.

Consistent with this change, Cambodia was effectively removed from Country Group D:5. Specifically, the Note to Country Group D:5 in supplement no. 1 to part 740 states that if there are any discrepancies between the list of countries in Country Group D:5 and the countries identified by the State Department as subject to a U.S. arms embargo, the State Department's list shall be controlling. Therefore, notwithstanding the continued presence of the “X” designation in Country Group D:5 denoting Cambodia as a country subject to the restrictions of that Group, the removal of Cambodia from ITAR § 126.1 meant that no such restrictions applied. In order to avoid confusion on the part of exporters, reexporters, and transferors over differences between the list of countries subject to an arms embargo in both regulations, this final rule deletes the “X” designation for Cambodia from Country Group D:5. Cambodia will remain designated in Country Group D:1 in supplement no. 1 to part 740 and the restrictions for Cambodia related to military and military-intelligence end uses and end users listed in §§ 744.21 and 744.22 of the EAR will also remain in place.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction.

Rulemaking Requirements

1. This rule has been determined to be significant pursuant to E.O. 12866. Although it is a “significant regulatory action” for purposes of E.O. 12866, this rule is exempt from the requirements of E.O. 14192, because it is being issued with respect to a national security function of the United States, per section 5(a) of E.O. 14192.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. Because the removal of Cambodia from Country Group D:5 will result in a more permissive license review policy for Cambodia under the EAR, BIS believes that the overall increase in burdens and costs associated with the 0694-0088 collection due to this rule is estimated to increase the number of license submissions by 100 license applications annually for an increase of 50 burden hours and cost of $1,900. BIS anticipates an increase in the use of certain EAR license exceptions as a result of the changes in this rule, but does not anticipate a change in the 0694-0137 collection because the limited number of license exceptions that will come generally do not require separate reporting in order to use. BIS does not anticipate change in the 0694-0096 or 0607-0152 collections as a result of the changes included in this final rule.

• 0694-0088, “Simplified Network Application Processing System,” which carries a burden-hour estimate of 29.7 minutes for a manual or electronic submission;

• 0694-0137 “License Exceptions and Exclusions,” which carries a burden-hour estimate average of 1.5 hours per submission;

• 0694-0096 “Five Year Records Retention Period,” which carries a burden-hour estimate of less than 1 minute; and

• 0607-0152 “Automated Export System (AES) Program,” which carries a burden-hour estimate of 3 minutes per electronic submission.

Additional information regarding these collections of information—including all background materials—can be found at https://www.reginfo.gov/public/do/PRAMain and using the search function to enter either the title of the collection or the OMB Control Number.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 740

Administrative practice and procedure, Exports, Reporting and recordkeeping requirements.

Accordingly, part 740 of the Export Administration Regulations (15 CFR parts 730-774) is amended as follows:

PART 740—LICENSE EXCEPTIONS

1. The authority citation for 15 CFR part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228.

2. In supplement 1 to part 740 amend the table Country Group D by revising the entry for Cambodia to read as follows:

Supplement No. 1 to Part 740—Country Groups

* * * * *

Country Group D
Country | [D: 1] National security | [D: 2] Nuclear | [D: 3] Chemical & biological | [D: 4] Missile technology | [D: 5] U.S. arms embargoed countries ¹
* * * * * * *
Cambodia | X
* * * * * * *
¹ Note to Country Group D:5: Countries subject to U.S. arms embargoes are identified by the State Department through notices published in the Federal Register. The list of arms embargoed destinations in this table is drawn from 22 CFR 126.1 and State Department Federal Register notices related to arms embargoes and will be amended when the State Department publishes subsequent notices. If there are any discrepancies between the list of countries in this table and the countries identified by the State Department as subject to a U.S. arms embargo (in the Federal Register), the State Department's list of countries subject to U.S. arms embargoes shall be controlling.

* * * * *

Julia A. Khersonsky,
Deputy Assistant Secretary for Strategic Trade.

[FR Doc. 2026-02262 Filed 2-3-26; 8:45 am]

BILLING CODE 3510-33-P